FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Boston Shipping Enterprises, Inc., 506 Decatur Street, Brooklyn, NY 11233. Officer: Hugh Boston, President (Qualifying Individual).

DVN Carries, LP, 6575 West Loop South, Suite 110, Bellaire, TX 77401. Officers: C. Rider Griwold, Limited Partner (Qualifying Individual), Madelaine Griswold.

TUG New York, Inc., 11 Sunrise Plaza, #304, Valley Stream, NY 11580. Officer: Robert Hslang Lin, Wu President (Qualifying Individual).

Sunitrans Logistics Private Limited, D-2135/36, Oberoi Garden Estates, Chandivli Farms Rd., Chandivli, Andheri (East), Mumbai 400 072 India. Officers: Changaram Ramesh Santosh, Chairman/President (Qualifying Individual), Ajit G. Bhat, Director.

Ocean & Sky International Freight A Partnership, 4225 S. Eastern Avenue, Ste. #4, Las Vegas, NV 89119. Officers: Sophann Chum, Owner (Qualifying Individual), Priscilla Chum, Owner.

President Container Line, Inc., 13515 S. Figueroa Street, Los Angeles, CA 90061. Officers: Chang-Yeh Tsai, President (Qualifying Individual).

Non-Vessel—Operating Common Carrier and Ocean Freight Forwarder Transportation Intermediary Applicants

ZLN North America Inc., 5801 Lake Wright Drive, Norfolk, VA 23502. Officers: Tommy Stramer, CEO (Qualifying Individual), Doron Goder, Director.

Atlas Logistics (USA) LLC, 6675 Eastland Road, Middleburg Hts., OH 44130. Officer: Edward M. Zarefoss, Owner (Qualifying Individual).

Affordable Global Shipping LLC dba Affordable Global Shipping, 4007 Greenbriar Drive, #F, Houston, TX 77477. Officers: Vivian No Nsonma Iheonye, General Manager (Qualifying Individual), Sunday Kehinde Onyeniran, Co-Owner.

America's Cargo Logistics LLC, 50 Carnation Ave., Building 1, Floral Park, NY 11001. Officer: William A. Nichols, President (Qualifying Individual).

Ocean Freight Forwarder—Ocean Transportation Intermediary Applicants

Sunshine Service International, Inc., 147-35, 183 Str., Suite 203, Jamaica, NY 11413. Officer: Maia Stoichkov, Owner (Qualifying Individual).

Embarques Colonial Corporation, 1332 NW. 36th Street, Miami, FL 33142. Officers: Daisy Lantigua, President (Qualifying Individual), Eduan Sanchez, Vice President.

Savitas Express, Inc., 985 Los Lagos, Pomona, CA 91766. Officer: Peiyu (Vivian) Huang, President (Qualifying Individual).

Globaltransol L.L.C., 134 Innis Avenue, Apt. R12, Poughkeepsie, NY 12601. Officer: Eric K. Gnakadja, President (Qualifying Individual).

Awilda Shipping Corporation, 41-02 108th Street, Corona, NY 11368. Officer: Jesucito Parra, Supervisor (Qualifying Individual).

Arrow Worldwide, LLC, 917 Pacific Avenue, Tacoma, WA 98402. Officers: Virginia Casto, Member (Qualifying Individual), Debra A. Evans, Member.

Journey Moving and Storage Corp. dba International Sea & Air, 5 Lexington Avenue, East Brunswick, NJ 08816. Officers: Michael Dragin, Vice President (Qualifying Individual), Doreen Dragin, President.

Dated: May 5, 2006.
Bryant L. VanBrakle,
Secretary.

[FR Doc. E6-7141 Filed 5-9-06; 8:45 am]

BILLING CODE 6730-01-P